DEPARTMENT OF THE INTERIOR

Bureau of Indian Affairs

[DR.5B711.IA000813]

Indian Gaming

AGENCY: Bureau of Indian Affairs, Interior.

ACTION: Notice of Approved Tribal-State Class III Gaming Compact.

SUMMARY: This notice publishes the approval of an amendment to the Class III Tribal-State Gaming Compact between the Menominee Indian Tribe of Wisconsin and the State of Wisconsin (Amendment).

DATES: Effective Date: May 8, 2013.

FOR FURTHER INFORMATION CONTACT: Paula L. Hart, Director, Office of Indian Gaming, Office of the Deputy Assistant Secretary—Policy and Economic Development, Washington, DC 20240, (202) 219-4066.

SUPPLEMENTARY INFORMATION: Under Section 11 of the Indian Gaming Regulatory Act (IGRA) Public Law 100-497, 25 U.S.C. 2701 et seq., the Secretary of the Interior shall publish in the Federal Register notice of approved Tribal-State compacts for the purpose of engaging in Class III gaming activities on Indian lands. On March 19, 2013, the Menominee Indian Tribe of Wisconsin (Tribe) and the State of Wisconsin submitted an Amendment for review and approval. The amendment adds the language “or the government of an Indian tribe as defined in 25 U.S.C. 2703(5),” for purposes of including tribal governments in the compact's list of entities that are exempt from obtaining a State-issued certificate to finance the Tribe's gaming-related facilities.

Dated: May 1, 2013.
Kevin K. Washburn,
Assistant Secretary—Indian Affairs.

[FR Doc. 2013-10923 Filed 5-7-13; 8:45 am]

BILLING CODE 4310-4N-P